ENVIRONMENTAL PROTECTION AGENCY

[ER-FRL-9001-2]

Environmental Impacts Statements; Notice of Availability

Responsible Agency: Office of Federal Activities, General Information (202) 564-1399 or http://www.epa.gov/compliance/nepa/.

Weekly receipt of Environmental Impact Statements Filed 01/09/2012 Through 01/13/2012

Pursuant to 40 CFR 1506.9.

Notice

Section 309(a) of the Clean Air Act requires that EPA make public its comments on EISs issued by other Federal agencies. EPA's comment letters on EIS are available at: http://www.epa.gov/compliance/nepa/eisdata.html.

EIS No. 20120004, Final Supplement, BOEM, 00, Gulf of Mexico Outer Continental Shelf Oil and Gas Lease Sales: 2012 Central Planning Area Lease Sales: 216 and 222, Potential Changes to the Baseline Conditions, Offshore Marine Environment and Coastal Counties/Parishes of MS, LA, AL, Review Period Ends: 02/21/2012, Contact: Gary Goeke (504) 736-3233.

EIS No. 20120005, Draft EIS, NRCS, HI, South Kona Watershed Irrigation System, To Provide Supplemental Irrigation Water to Farms in the Honomalino/Kapu'a Area, Funding, County of Hawaii, HI, Comment Period Ends: 03/05/2012, Contact: Sharon Sawdey (808) 541-2600, ext. 125.

EIS No. 20120006, Draft EIS, USACE, AK, Alaska Stand Alone Gas Pipeline, Construction and Operation of a 737 mile Pipeline to Transport Supply of Natural Gas and Natural Gas Liquids from Alaska's North Slope to Fairbanks, Anchorage and the Cook Inlet Area by 2019, USACE Section 10 and 404 Permits, NPDES Permit, AK, Comment Period Ends: 03/05/2012, Contact: Mary Romero (907) 261-7710.

EIS No. 20120007, Final EIS, USFWS, TX, Habitat Conservation Plan for Oncor Electric Delivery Facilities, Application for Incidental Take Permit for 11 Federally Listed Species in 100 Texas Counties, Review Period Ends: 02/21/2012, Contact: Adam Zerrenner (512) 490-0057.

EIS No. 20120008, Draft EIS, FHWA, 00, 14th Street Bridge Corridor Project, To Reduce Congestion, Enhance Safety and Improve Traffic Operation, Funding, Arlington, VA to Washington, DC, Comment Period Ends: 03/05/2012, Contact: Jack Van Dop (703) 404-6282.

EIS No. 20120009, Draft EIS, BPA, OR, Albany-Eugene 115 kilovolt No. 1 Transmission Line Rebuild Project, Extending from Albany Substation to the Alderwood Tap, Linn and Lane Counties, OR, Comment Period Ends: 03/05/2012.

EIS No. 20120010, Draft EIS, BLM, NV, Searchlight Wind Energy Project, Application for Right-of-Way Grant on Public Land to Develop, Construct, Operate, Maintain and Decommission of a 200 megawatt Wind Energy Facility, USACE Section 404 Permit, Clark County, NV, Comment Period Ends: 04/18/2012, Contact: Gregory Helseth (702) 515-5173.

EIS No. 20120011, Final EIS, FTA, CA, Regional Connector Transit Corridor Project, Proposes a Light Rail Extension Connecting Metro Gold Line to the Metro Blue Line and the Metro Expo Line, Los Angeles County, CA, Review Period Ends: 02/21/2012, Contact: Ray Tellis (213) 202-3956.

EIS No. 20120012, Draft EIS, USAF, 00, F-35A Training Basing, To Base a Pilot Training Center with the Beddown of F-35A Training Aircraft at four Alternative Bases, Boise AGS, Holloman AFD, Luke AFB, and Tucson AGS, ID, AZ, NM, Comment Period Ends: 03/13/2012, Contact: Kim Fornof (210) 652-1961.

Amended Notices

EIS No. 20110436, Draft EIS, NOAA, AK, Effects of Oil and Gas Activities in the Arctic Ocean, Beaufort and Chukchi Seas, AK, Comment Period Ends: 02/28/2012, Contact: James H. Lecky (301) 427-8400.

Revision to FR Notice Published 12/30/2011: Extending Comment Period from 2/13/2012 to 2/28/2012.

Dated: January 17, 2012.
Cliff Rader,
Director, NEPA Compliance Division, Office of Federal Activities.

[FR Doc. 2012-1114 Filed 1-19-12; 8:45 am]

BILLING CODE 6560-50-P